DEPARTMENT OF HEALTH AND HUMAN SERVICES

Food and Drug Administration

[Docket Nos. FDA-2013-N-0545; FDA-2013-N-0878; FDA-2014-N-0998; FDA-2014-N-1076; FDA-2017-N-6162; FDA-2011-N-0510; FDA-2014-N-1414; FDA-2008-D-0610; FDA-2010-D-0073; FDA-2013-N-0080; FDA-2017-N-6397; FDA-2014-D-0313; FDA-2014-N-1030; and FDA-2014-D-1837]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved By OMB
Title of collection | OMB control No. | Date approval expires
Infant Formula Requirements | 0910-0256 | 5/31/2021
Premarket Notification for a New Dietary Ingredient | 0910-0330 | 5/31/2021
Regulations for In Vivo Radiopharmaceuticals Used for Diagnosis and Monitoring | 0910-0409 | 5/31/2021
Guidance for Industry: Formal Dispute Resolution; Scientific and Technical Issues Related to Pharmaceutical Current Good Manufacturing Practice | 0910-0563 | 5/31/2021
Requests for Inspection by an Accredited Person Under the Inspection for Accredited Persons Program | 0910-0569 | 5/31/2021
Substances Prohibited from Use in Animal Food or Feed | 0910-0627 | 5/31/2021
Class II Special Controls Guidance Document: Labeling for Natural Rubber Latex Condoms Classified Under 21 CFR 884.5300 | 0910-0633 | 5/31/2021
Guidance for Industry: Postmarketing Adverse Event Reporting for Medical Products and Dietary Supplements During an Influenza Pandemic | 0910-0701 | 5/31/2021
Guidance on Consultation Procedures: Foods Derived From New Plant Varieties | 0910-0704 | 5/31/2021
Human Subject Protection; Acceptance of Data From Clinical Investigations for Medical Devices | 0910-0741 | 5/31/2021
Food Labeling; Calorie Labeling of Articles of Food in Vending Machines and Nutrition Labeling of Standard Menu Items in Restaurants and Similar Retail Food Establishments | 0910-0782 | 5/31/2021
Guidance for Industry, Researchers, Patient Groups, and Food and Drug Administration Staff on Meetings with the Office of Orphan Products Development | 0910-0787 | 5/31/2021
Food Allergen Labeling and Reporting | 0910-0792 | 5/31/2021
Transfer of a Premarket Notification Clearance | 0910-0852 | 5/31/2021

Dated: June 13, 2018.
Leslie Kux,
Associate Commissioner for Policy.

[FR Doc. 2018-13098 Filed 6-18-18; 8:45 am]

BILLING CODE 4164-01-P